DEPARTMENT OF ENERGY

Federal Energy Regulatory Commission

[Docket No. CP07-62-000AES Sparrows Point LNG, LLC; Docket Nos. CP07-63-000, CP07-64-000, CP07-65-000, Mid-Atlantic Express, LLC]

Notice of Applications for Certificates of Public Convenience and Necessity and Section 3 Authorization

January 23, 2007.

Take notice that on January 8, 2007, AES Sparrows Point LNG, LLC, (AES Sparrows Point) filed an application in Docket No. CP07-62-000 pursuant to Section 3(a) of the Natural Gas Act (NGA), and Parts 153 and 380 of the Commission's regulations for authorization to site, construct and operate a liquefied natural gas (LNG) receiving terminal and associated facilities to be located in Baltimore County, Maryland as a place of entry for the importation of LNG.

Also take notice that on January 8, 2007, Mid-Atlantic Express, LLC, (Mid-Atlantic Express) filed pursuant to Section 7(c) of the NGA and the Commission's regulations; (1) an application in Docket No. CP07-53-000 for a certificate of public convenience and necessity; (i) authorizing Mid-Atlantic Express to construct, own and operate the Mid-Atlantic Express's pipeline under Part 157, Subpart A, (ii) approving the pro forma Tariff submitted as Exhibit P of the application, and (iii) approving the proposed initial rates for pipeline transportation services; (2) an application in Docket No. CP07-54-000, for a blanket certificate authorizing Mid-Atlantic Express to engage in certain self-implementing routine activities under Part 157, Subpart F; and (3) an application in Docket No. CP07-55-000, for a blanket certificate authorizing Mid-Atlantic Express to transport natural gas, on an open access and self-implementing basis, under Part 284, Subpart G.

Any questions regarding these applications should be directed to Christopher H. Diez, AES Sparrows Point LNG, LLC & Mid-Atlantic Express, LLC, 140 Professional Parkway, Suite A, Lockport, New York 14094.

These filings are available for review at the Commission's Washington, DC offices or may be viewed on the Commission's Web site at http://www.ferc.gov/ using the “e-Library” link. Enter the docket number, excluding the last three digits, in the docket number field to access the document. For assistance, please contact FERC Online Support at ferconlinesupport@ferc.gov or Telephone: 202-502-6652; Toll-free: 1-866-208-3676; or for TTY, contact (202) 502-8659.

AES Sparrows Point seeks authorization to site, construct and operate a new LNG import terminal LNG Terminal, with an initial delivery capacity of 1.5 billion cubic feet per day of natural gas, to be located at the Sparrows Point industrial complex in Baltimore County, Maryland. AES Sparrows Point's proposed LNG Terminal would be located on an about 80 acre parcel located at the Sparrows Point industrial complex, which is situated on the Sparrows Point peninsula extending into the Chesapeake Bay east of the Port of Baltimore. The LNG Terminal would include facilities to receive LNG from ocean-going LNG ships, store the LNG onshore in full-containment tanks, re-vaporize the LNG, and then deliver pipeline quality natural gas to the Mid-Atlantic Express pipeline.

Mid-Atlantic Express seeks authorization to construct and operate an 88-mile natural gas pipeline that will transport regasified LNG from the Terminal to interconnections with three existing interstate pipelines in the vicinity of Eagle, Pennsylvania. Mid-Atlantic Express conducted an open season for firm transportation capacity on its proposed pipeline and AES Mid-Atlantic LNG Marketing, LLC, an affiliate of Mid-Atlantic Express, submitted a bid for the entire capacity of the Pipeline and was accepted as the sole customer of the project at this point. Mid-Atlantic Express estimates that the cost of its pipeline facilities will be about $415 million. The details of Mid-Atlantic Express's proposed transportation services and the derivation of the initial recourse rates for those services are shown in Exhibit P of Mid-Atlantic Express's filing.

AES Sparrows Point and Mid-Atlantic Express propose to commence service in late 2010. AES Sparrows Point and Mid-Atlantic Express request that the Commission issue a final order in these proceedings by November 1, 2007 to enable them to begin construction in a timely manner to achieve their proposed in-service date.

On April 3, 2006, the Commission staff granted AES Sparrows Point's and Mid-Atlantic Express's request to utilize the Pre-Filing Process and assigned Docket No. PF06-22-000 to staff activities involving Sparrows Point LNG's and Mid-Atlantic Express's combined project. Now, as of the filing of Sparrows Point LNG's and Mid-Atlantic Express's applications on January 8, 2007, the Pre-Filing Process for this project has officially concluded. And while the PF docket number is now closed, all of the information contained in the Pre-Filing Process will become part of the LNG terminal authorization and pipeline certificate proceeding(s). From this time forward, Sparrows Point LNG's and Mid-Atlantic Express's proceedings will be conducted in Docket Nos. CP07-62-000, CP07-63-000, CP07-64-000, and CP07-65-000 as noted in the caption of this Notice. All future correspondence should refer to these CP docket numbers only.

Pursuant to Section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this Project. First, any person wishing to obtain legal status by becoming a party to the proceeding for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 285.2001(a)(1)(iii) and the instructions on the Commission's Web site under the “e-filing” link. The Commission strongly encourages electronic filings.

The Commission may issue a preliminary determination on non-environmental issues prior to the completion of its review of the environmental aspects of the project and associated pipeline. This preliminary determination typically considers such issues as the need for the project and its economic effect on existing customers of the applicant, on other pipelines in the area, and on landowners and communities. For example, the Commission considers the extent to which the applicant may need to exercise eminent domain to obtain rights-of-way for the proposed pipeline and balances that against the non-environmental benefits to be provided by the project.

If the Commission decides to set the application for a formal hearing before an Administrative Law Judge, the Commission will issue another notice describing that process. At the end of the Commission's review process, a final Commission order approving or denying a certificate will be issued.

Comment Date: February 14, 2007.

Magalie R. Salas,
Secretary.

[FR Doc. E7-1362 Filed 1-29-07; 8:45 am]

BILLING CODE 6717-01-P